DEPARTMENT OF COMMERCE

National Institute of Standards and Technology

Aerosols and Similar Pressurized Containers—Meeting To Discuss the Method of Sale for Packages Utilizing Bag on Valve Technology (BOV)

AGENCY: National Institute of Standards and Technology, Commerce.

ACTION: Notice.

SUMMARY: The National Institute of Standards and Technology (NIST) is facilitating a meeting on January 9, 2014, from 10:00 a.m. to 3:00 p.m. Eastern time to discuss the method of sale (quantity statement) for products sold in pressurized containers using Bag on Valve (BOV) technology.

DATES: The meeting will be held on Thursday, January 9, 2014, from 10:00 a.m. to 3:00 p.m. Eastern time.

ADDRESSES: The meeting will be held at NIST, 100 Bureau Drive, Building 101, Lecture Room D, Gaithersburg, MD 20899. Please see SUPPLEMENTARY INFORMATION section for admittance instructions.

FOR FURTHER INFORMATION CONTACT: Mr. Sefcik, NIST, Office of Weights and Measures, 100 Bureau Drive, Stop 2600, Gaithersburg, MD 20899-2600. You may also contact Mr. Sefcik by telephone (301) 975-4868 or by email at david.sefcik@nist.gov.

SUPPLEMENTARY INFORMATION: NIST is hosting and facilitating a meeting to support the efforts of the National Conference on Weights and Measures (NCWM), Laws and Regulations Committee on January 9, 2014, from 10:00 a.m. to 3:00 p.m. Eastern time. The meeting is intended to bring together federal and state government officials, industry, trade associations, and other interested parties to discuss the appropriate method of sale for packages labeled with a net quantity that utilizes BOV technology. NIST participates to promote uniformity among the states in laws, regulations, methods, and testing equipment that comprises the regulatory control of commercial weighing and measuring devices and systems and other trade and commerce issues.

The meeting will include a review of existing regulations within the Federal Trade Commission (FTC), Food and Drug Administration (FDA), Environmental Protection Agency (EPA), and the Consumer Products Safety Commission (CPSC), current test procedures, safety concerns, and a discussion on how value and price comparison can be maintained related to the method of sale. Once registered, participants will receive logistical information and a tentative agenda.

Any changes and recommendations will be reported and presented through the NCWM for possible inclusion in NIST Handbook 130.

Packages in the marketplace using BOV technology, where the propellant is not dispensed along with the product, have been found with quantity statements in terms of net volume (i.e., milliliters and fluid ounces). Most states adopt the Uniform, Packaging and Labeling Regulation (UPLR) in NIST Handbook 130, “Uniform Laws and Regulations in the Areas of Legal Metrology and Engine Fuel Quality” as their state regulation. There is a requirement in the UPLR that the net quantity on aerosol packages and similar pressurized containers be labeled in terms of net weight. Another provision in the UPLR states that “any net content statement that does not permit price and quantity comparison is forbidden.” Products using BOV technology versus traditional aerosol products cannot be easily distinguished when placed side by side, creating a challenge when consumers attempt to make value comparisons when two different methods of sale (i.e., weight and volume) are used. The outcome of the meeting is intended to produce a recommendation on the method of sale for labeling the net quantity of products sold using BOV technology and how products using BOV technology should be classified.

All participants must pre-register for this meeting in order to gain access to the NIST campus. Please submit your full name, email address, and phone number to Mr. David Sefcik no later than 5:00 p.m. Eastern time, Friday, December 27, 2013. Non-U.S. citizens will be required to provide additional information after pre-registering with Mr. Sefcik. Mr. Sefcik's email address is david.sefcik@nist.gov and his phone number is (301) 975-4868.

Dated: December 17, 2013.
Willie E. May,
Associate Director for Laboratory Programs.

[FR Doc. 2013-30672 Filed 12-23-13; 8:45 am]

BILLING CODE 3510-13-P